DEPARTMENT OF THE INTERIOR

National Park Service

Notice of Inventory Completion for Native American Human Remains and Associated Funerary Objects in the Control of the New Mexico State Office, Bureau of Land Management, Santa Fe, NM

AGENCY: National Park Service, Interior.

ACTION: Notice.

Notice is hereby given in accordance with provisions of the Native American Graves Protection and Repatriation Act (NAGPRA), 43 CFR 10.9, of the completion of an inventory of human remains and associated funerary objects in the control of the New Mexico State Office, Bureau of Land Management, Santa Fe, NM.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the University of Colorado Museum, Eastern New Mexico University, the Maxwell Museum of Anthropology (University of New Mexico), the New Mexico State University Museum, the Museum of New Mexico, the San Juan County Museum, and Bureau of Land Management professional staff in consultation with representatives of the Hopi Tribe, the Navajo Nation, the Pueblo of Acoma, the Pueblo of Jemez, the Pueblo of Isleta, the Pueblo of San Ildefonso, the Pueblo of Zia, and the Zuni Tribe of the Zuni Reservation.

In 1981, human remains representing eight individuals were recovered from site LA 282 in New Mexico during legally authorized excavations and collections conducted by the Archeological Field School of the University of New Mexico. These human remains are presently curated at the Maxwell Museum of Anthropology, University of New Mexico. No known individuals are identified. The 11 associated funerary objects are pottery bowls and sherds.

Based on material culture, architecture, and site organization, site LA 282 has been identified as an Anasazi pueblo occupied between A.D.1300-1600.

Continuities of ethnographic materials, technology, and architecture indicate affiliation of Anasazi sites in this area of New Mexico with historic and present-day Puebloan cultures. Oral tradition presented by representatives of the Pueblo of Isleta indicate cultural affiliation with the Anasazi sites in this portion of New Mexico.

Based on the above-mentioned information, officials of the New Mexico State Office of the Bureau of Land Management have determined that, pursuant to 43 CFR 10.2 (d)(1), the human remains listed above represent the physical remains of eight individuals of Native American ancestry. Officials of the New Mexico State Office of the Bureau of Land Management also have determined that, pursuant to 43 CFR 10.2 (d)(2), the 11 objects listed above are reasonably believed to have been placed with or near individual human remains at the time of death or later as part of the death rite or ceremony. Lastly, officials of the New Mexico State Office of the Bureau of Land Management have determined that, pursuant to 43 CFR 10.2 (e), there is a relationship of shared group identity that can be reasonably traced between these Native American human remains and associated funerary objects and the Pueblo of Isleta and the Pueblo of Ysleta del Sur. This notice has been sent to officials of the Hopi Tribe, the Navajo Nation, the Pueblo of Acoma, the Pueblo of Jemez, the Pueblo of Isleta, the Pueblo of San Ildefonso, the Pueblo of Zia, and the Zuni Tribe of the Zuni Reservation. Representatives of any other Indian tribe that believes itself to be culturally affiliated with these human remains and associated funerary objects should contact Stephen L. Fosberg, State Archeologist and NAGPRA Coordinator, New Mexico State Office, Bureau of Land Management, 1474 Rodeo Road, Santa Fe, NM 87502-0115, telephone (505) 438-7415, before November 3, 2000. Repatriation of the human remains and associated funerary objects to the Pueblo of Isleta and the Pueblo of Ysleta del Sur may begin after that date if no additional claimants come forward.

Dated: September 26, 2000.
John Robbins,
Assistant Director, Cultural Resources Stewardship and Partnerships.

[FR Doc. 00-25399 Filed 10-3-00; 8:45 am]

BILLING CODE 4310-70-F